DEPARTMENT OF THE INTERIOR

Bureau of Indian Affairs

Request for Nominations of Members To Serve on the Bureau of Indian Affairs Advisory Board for Exceptional Education

AGENCY: Bureau of Indian Affairs, Interior.

ACTION: Notice of request for nominations.

SUMMARY: Pursuant to the Federal Advisory Committee Act (FACA) and the Individuals with Disabilities Education Act (IDEA), the Bureau of Indian Affairs (BIA), Office of Indian Education Programs (OIEP), requests nominations of individuals to serve on the BIA Advisory Board for Exceptional Education (Advisory Board). The BIA/OIEP will consider nominations received in response to this Request for Nominations. The SUPPLEMENTARY INFORMATION section provides committee and membership criteria, and the membership nomination form.

DATES: Submit nominations on or before February 14, 2005.

ADDRESSES: Please submit nomination applications to Gloria Yepa, Supervisory Education Specialist, BIA, OIEP, Center For School Improvement, 500 Gold Avenue, SW., Post Office Box 1088, Albuquerque, New Mexico 87103-1088.

FOR FURTHER INFORMATION CONTACT: Gloria Yepa, Supervisory Education Specialist, Office of Indian Education Programs, Center for School Improvement, (505) 248-7541.

SUPPLEMENTARY INFORMATION: The Advisory Board was established in accordance with the Federal Advisory Committee Act, Public Law 92-463, 5 U.S.C, Appendix 2, Section 10(a)(b). The following provides information about the committee objective and duties, membership, miscellaneous, nomination information, and membership nomination form.

Objective and Duties

(a) Members of the Advisory Board provide guidance, advice and recommendations with respect to special education and related services for children with disabilities in BIA funded schools in accordance with the requirements of IDEA;

(b) Provides advice and recommendations for the coordination of services within the BIA and with other local, State and Federal agencies;

(c) Provides advice and recommendations on a broad range of policy issues dealing with the provision of educational services to American Indian children with disabilities;

(d) Serves as an advocate for American Indian students with special education needs by providing advice and recommendations regarding best practices, effective program coordination strategies, and recommendations for improved educational programming;

(e) Provides advice and recommendations for the preparation of information required to be submitted to the Secretary of Education under section 611(i)(2)(D) of IDEA;

(f) Provides advice and recommends policies concerning effective inter/intra-agency collaboration, including modifications to regulations, and the elimination of barriers to inter/intra-agency programs and activities; and

(g) Reports to the BIA/OIEP Lead Supervisory Education Specialist for special education.

Membership

(a) The Board will be composed of 15 members. The Assistant Secretary—Indian Affairs may provide the Secretary of the Interior recommendations for the Chairperson, however, the Secretary of the Interior will appoint the chairperson and other board members. Members will serve for a term of 2 years from the date of their appointment. The Secretary may remove members from the Board at any time at his/her discretion.

(b) As required by the IDEA under section 611(i)(5), the Board will be composed of individuals involved in or concerned with the education and provision of services to Indian children with disabilities. The Board composition will reflect a broad range of viewpoints and will include at least one member representing each of the following interests: Indian persons with disabilities, teachers of children with disabilities, Indian parents or guardians of children with disabilities, service providers, State Education Officials, Local Education Officials, State Interagency Coordinating Councils (for states having Indian reservations), tribal representatives or tribal organization representatives, and BIA employees concerned with the education of children with disabilities.

Miscellaneous

(a) Members of the Board will not receive compensation, but will be reimbursed for travel, subsistence and other necessary expenses incurred in the performance of their duties consistent with the provisions of 5 U.S.C. Chapter 57.

(b) A member may not participate in matters that will directly affect, or appear to affect, the financial interests of the member or the member's spouse or minor children, unless authorized by the Designated Federal Official (DFO). Compensation from employment does not constitute a financial interest of the member so long as the matter before the committee will not have a special or distinct effect on the member or the member's employer, other than as part of a class. The provisions of this paragraph do not affect any other statutory or regulatory ethical obligations to which a member may be subject.

(c) The Committee meets at least twice a year, budget permitting, but additional meetings may be held as deemed necessary by the Assistant Secretary or DFO.

(d) All Committee meetings are open to the public in accordance with the FACA regulations.

Nomination Information

(a) Nominations are requested from individuals, organizations, and federally recognized tribes, as well as from State Directors of Special Education (within the 23 states in which BIA funded schools are located) concerned with the education of Indian children with disabilities as described above.

(b) Nominees should have expertise and knowledge of the issues and/or needs of American Indian children with disabilities. Such knowledge and expertise are needed to provide advice and recommendations to the BIA/OIEP regarding the needs of American Indian children with disabilities.

(c) A summary of the candidates' qualifications (resume or curriculum vitae) must be included with the nomination application. Nominees must have the ability to participate in Advisory Committee meetings, Committee assignments, participate in teleconference calls, and to work in groups.

(d) The Department of the Interior is committed to equal opportunity in the workplace and seeks diverse Committee membership, but is bound by the Indian Preference Act of 1990, 25 U.S.C. 472.

Membership Nomination Form

The membership nomination form is attached to this notice. The nomination form may also be downloaded from the OIEP's Web site at http://www.ENAN.BIA.EDU.

Dated: December 22, 2004.
David W. Anderson,
Assistant Secretary—Indian Affairs.

Bureau of Indian Affairs Office of Indian Education Programs Advisory Board for Exceptional Education Membership Nomination Form

Nomination Information

A. Nominations are requested from individuals, organizations, and federally recognized tribes, as well as from State Directors of Special Education (within the 23 states in which BIA funded schools are located) concerned with the education of Indian children with disabilities.

B. Nominees should have expertise and knowledge of the issues and/or needs of American Indian children with disabilities. Such knowledge and expertise are needed to provide advice and recommendations to the BIA/OIEP regarding the needs of American Indian children with disabilities.

C. A summary of the candidates' qualifications (resume or curriculum vitae) must be included with the nomination application. Nominees must have the ability to participate in Advisory Committee meetings, Committee assignments, participate in teleconference calls, and to work in groups.

D. The Department of the Interior is committed to equal opportunity in the workplace and seeks diverse Committee membership, however, is bound by the Indian Preference Act of 1990 (25 U.S.C. 472).

Objective and Duties

A. The Committee provides guidance, advice and recommendations with respect to special education and related services for children with disabilities in BIA funded schools in accordance with the requirements of the Individuals with Disabilities Education Act (IDEA).

B. The Committee provides advice and recommendations for the coordination of services within the BIA and with other local, State and Federal agencies.

C. The Committee provides advice and recommendations on a broad range of policy issues dealing with the provision of educational services to American Indian children with disabilities.

D. The Committee serves as an advocate for American Indian students with special education needs by providing advice and recommendations regarding best practices, effective program coordination strategies, and recommendations for improved educational programming.

E. The Committee provides advice and recommendations for the preparation of information required to be submitted to the Secretary of Education.

F. The Committee provides advice and recommends policies concerning effective inter/intra-agency collaboration, including modifications to regulations, and the elimination of barriers to inter/intra-agency programs and activities.

G. The Committee reports to the Lead Supervisory Education Specialist.

Membership

A. The Board will be composed of 15 members. The Assistant Secretary—Indian Affairs may provide the Secretary of the Interior recommendations for the Chairperson. The Secretary of the Interior as required by IDEA will appoint all board members. Board members will serve for a term of 2 years from the date of their appointment. The Secretary may remove members from the Board at any time at his/her discretion.

B. As required by IDEA under section 611(i)(5), 111 Stat. 59, the Board will be composed of individuals involved in or concerned with the education and provision of services to Indian children with disabilities. The Board composition will reflect a broad range of viewpoints and will include at least one member representing each of the following interests: Indian persons with disabilities, teachers of children with disabilities, Indian parents or guardians of children with disabilities, service providers, State Education Officials, Local Education Officials, State Interagency Coordinating Councils (for states having Indian reservations), tribal representatives or tribal organization representatives, and BIA employees concerned with the education of children with disabilities.

C. Members of the Board will not receive compensation, but will be reimbursed for travel, subsistence and other necessary expenses incurred in the performance of their duties consistent with the provisions of 5 U.S.C. Chapter 57.

D. A member may not participate in matters that will directly affect, or appear to affect, the financial interests of the member or the member's spouse or minor children, unless authorized by the Designated Federal Official (DFO). Compensation from employment does not constitute a financial interest of the member so long as the matter before the committee will not have a special or distinct effect on the member or the member's employer, other than as part of a class. The provisions of this paragraph do not affect any other statutory or regulatory ethical obligations to which a member may be subject.

E. The Committee meets at least twice a year, budget permitting, but additional meetings may be held as deemed necessary by the Assistant Secretary or DFO.

BILLING CODE 4310-6W-P

[FR Doc. 05-705 Filed 1-12-05; 8:45 am]

BILLING CODE 4310-6W-C